DEPARTMENT OF HEALTH AND HUMAN SERVICES

Solicitation for Written Comments on Proposed Objectives for Healthy People 2030

AGENCY: Office of Disease Prevention and Health Promotion, Office of the Assistant Secretary for Health, Office of the Secretary, Department of Health and Human Services.

ACTION: Notice.

SUMMARY: The Office of Disease Prevention and Health Promotion (ODPHP), Office of the Assistant Secretary for Health, U.S. Department of Health and Human Services (HHS), is soliciting written comments on the proposed Healthy People 2030 objectives, including proposed core, developmental, and research objectives. The public is also invited to propose new objectives to be considered for inclusion in Healthy People 2030.

ODPHP manages the Health People initiative, which provides science-based, 10-year national objectives for promoting health and preventing disease. Every 10 years, through the Healthy People initiative, HHS leverages scientific insights and lessons from the past decade along with new knowledge of current data, trends, and innovations to develop the next iteration of national health promotion and disease prevention objectives. For four decades, Healthy People has set and monitored national health objectives to meet a broad range of health needs, encouraged collaborations across sectors, guided individuals toward making informed health decisions, and measured the impact of our prevention and health promotion activities. The proposed objectives for Healthy People 2030 represent a streamlined set of objectives, representing important public health issues facing our nation.

DATES: Written comments must be submitted by January 11, 2019.

ADDRESSES: Written comments will be accepted via an online public comment database on http://www.healthypeople.gov and via email at HP2030@hhs.gov. Instructions for submitting comments can be found on http://www.healthypeople.gov.

FOR FURTHER INFORMATION CONTACT: Ayanna Johnson, Public Health Advisor, U.S. Department of Health and Human Services, Office of the Assistant Secretary for Health, Office of Disease Prevention and Health Promotion, 1101 Wootton Parkway, Suite LL100, Rockville, MD 2085. Email: HP2030@hhs.gov.

SUPPLEMENTARY INFORMATION: Background: For four decades, Healthy People has provided a comprehensive set of national 10-year health promotion and disease prevention objectives aimed at improving the health of all Americans. The Healthy People development process strives to maximize transparency, public input, and stakeholder dialogue to ensure that Healthy People 2030 is relevant to diverse public health needs and seizes opportunities to achieve its goals. Since its inception, Healthy People has been the product of an extensive collaborative process that relies on input from a diverse array of individuals and organizations, both within and outside the federal government, with a common interest in improving the nation's health. During the first phase of planning for Healthy People 2030, HHS asked for the public's comments on the Healthy People 2030 framework, including the vision, mission, foundational principles, overarching goals, and plan of action. Those comments helped shape the framework for Healthy People 2030, which can be found here: https://www.healthypeople.gov/2020/About-Healthy-People/Development-Healthy-People-2030/Framework.

Public participation will shape the objectives included in Healthy People 2030. Healthy People 2030 will provide a picture of the nation's health at the beginning of the decade, establish national goals and targets to be achieved by the year 2030, and monitor progress over time. As a national initiative, Healthy People's success depends on a coordinated commitment to improve the health of the nation.

Authority: 42 U.S.C. 200u.

Dated: November 13, 2018.
Don Wright,
Deputy Assistant Secretary for Health, Disease Prevention and Health Promotion.

[FR Doc. 2018-25836 Filed 11-26-18; 8:45 am]

BILLING CODE 4150-32-P